DEPARTMENT OF COMMERCE

International Trade Administration

[A-570-108]

Ceramic Tile From the People's Republic of China: Final Results of the Expedited First Sunset Review of the Antidumping Duty Order

AGENCY: Enforcement and Compliance, International Trade Administration, Department of Commerce.

SUMMARY: The U.S. Department of Commerce (Commerce) finds that revocation of the antidumping duty (AD) order on ceramic tile from the People's Republic of China (China) would be likely to lead to continuation or recurrence of dumping, at the levels indicated in the “Final Results of Sunset Review” section of this notice.

DATES: Applicable August 27, 2025.

FOR FURTHER INFORMATION CONTACT: Juliana Kogan, Trade Agreements Policy and Negotiations, Enforcement and Compliance, International Trade Administration, U.S. Department of Commerce, 1401 Constitution Avenue NW, Washington, DC 20230; telephone: 202-482-0966.

SUPPLEMENTARY INFORMATION:

Background

On June 1, 2020, Commerce published the Order in the Federal Register.¹ On May 1, 2025, Commerce published the notice of initiation of this first sunset review of the Order, pursuant to section 751(c) of the Tariff Act of 1930, as amended (the Act).²

¹ See Ceramic Tile from the People's Republic of China: Antidumping Duty Order, 85 FR 33089, (June 1, 2020).

² See Initiation of Five-Year (Sunset) Reviews, 90 FR 18642 (May 1, 2025).

On May 21, 2025, Commerce received a complete notice of intent to participate in the sunset review from the Domestic Interested Party ³ within the deadline specified in the 19 CFR 351.218(d)(1)(i).⁴ The Domestic Interested Party claimed interested party status within the meaning of section 771(9)(E) of the Act as a coalition of manufacturers, producers, or wholesalers in the United States of a domestic like product.⁵ On May 22, 2025, Commerce notified the U.S. International Trade Commission (ITC) that it had received a notice of intent to participate from the Domestic Interested Party.⁶

³ The Domestic Interested Party is the Coalition for Fair Trade in Ceramic Tile.

⁴ See Domestic Interested Party's Letter, “Sunset Review Ceramic Tile from China: Petitioner's Notice of Intent to Participate,” dated May 21, 2025.

⁵ Id. at 3.

⁶ See Commerce's Letter, “Sunset Reviews Initiated on February 3, 2025,” dated May 22, 2025.

On June 2, 2025, pursuant to 19 CFR 351.218(d)(3)(i), the Domestic Interested Party filed a timely and adequate substantive response.⁷ Commerce did not receive a substantive response from any respondent interested party. On June 20, 2025, Commerce notified the ITC that it did not receive substantive response from any respondent interested parties.⁸ As a result, pursuant to section 751(c)(3)(B) of the Act and 19 CFR 351.218(e)(1)(ii)(C)(2), Commerce is conducting an expedited (120-day) sunset review of the Order.

⁷ See Domestic Interested Party's Letter, “Substantive Response of the Coalition for Fair Trade in Ceramic Tile to the Notice of Initiation of First Five-Year Sunset Review of Ceramic Tile from China,” dated June 2, 2025 (Substantive Response).

⁸ See Commerce's Letter, “Sunset Reviews Initiated on May 1, 2025,” dated June 20, 2025.

Scope of the Order

The product covered by this Order is ceramic tile from China. For the full description of the scope of the Order, see the Issues and Decisions Memorandum.⁹

⁹ See Memorandum, “Issues and Decision Memorandum for the Final Results of the Expedited First Sunset Review of the Antidumping Duty Order on Ceramic Tile from the People's Republic of China,” dated concurrently with, and hereby adopted by, this notice.

Analysis of Comments Received

A complete discussion of all issues raised in this sunset review, including the likelihood of continuation or recurrence of dumping in the event of revocation of the Order and the magnitude of the margins likely to prevail if the Order were to be revoked, is provided in the accompanying Issues and Decision Memorandum.¹⁰ A list of the topics discussed in the Issues and Decision Memorandum is attached in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

¹⁰ Id.

Final Results of Sunset Review

Pursuant to sections 751(c)(1), 752(c)(1) and (3) of the Act, Commerce determines that revocation of the Order would be likely to lead to continuation or recurrence of dumping, and that the magnitude of the dumping margins likely to prevail would be weighted-average dumping margins up to 356.02 percent.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: August 22, 2025.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2025-16423 Filed 8-26-25; 8:45 am]

BILLING CODE 3510-DS-P